DEPARTMENT OF COMMERCE

National Oceanic and Atmospheric Administration

[I.D. 120701D]

North Pacific Fishery Management Council; Public Meeting

AGENCY: National Marine Fisheries Service (NMFS), National Oceanic and Atmospheric Administration (NOAA), Commerce.

ACTION: Notice of committee meeting.

SUMMARY: The North Pacific Fishery Management Council’s (Council) Observer Committee will meet in Seattle, WA.

DATES: The meeting will be held on January 7-8, 2002.

ADDRESSES: The meeting will be held at the Alaska Fisheries Science Center (Center), 7600 Sand Point Way NE, Seattle, WA.

Council address: North Pacific Fishery Management Council, 605 W. 4th Ave., Suite 306, Anchorage, AK 99501-2252.

FOR FURTHER INFORMATION CONTACT: Nicole Kimball, North Pacific Fishery Management Council; telephone: 907-271-2809.

SUPPLEMENTARY INFORMATION: The meeting will begin at 9 a.m. on Monday, January 7, continue through Monday, January 8. The committee’s agenda includes the following issues:

1. Review draft analysis for three regulatory changes to the North Pacific Groundfish Observer Program, and

2. Review the goals and objectives of the North Pacific Groundfish Observer Program.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen, 907-271-2809, at least 5 working days prior to the meeting date.

Dated: December 10, 2001.
Richard W. Surdi,
Acting Director, Office of Sustainable Fisheries, National Marine Fisheries Service.

[FR Doc. 01-31015 Filed 12-14-01; 8:45 am]

BILLING CODE 3510-22-S